ENVIRONMENTAL PROTECTION AGENCY

[FRL-8319-3]

Renewal of Federal Advisory Committee To Examine Detection and Quantitation Approaches in Clean Water Act Programs

AGENCY: Environmental Protection Agency (EPA).

ACTION: Notice; Renewal of a Federal Advisory Committee on Detection and Quantitation in Clean Water Act Programs.

SUMMARY: The Charter for the Environmental Protection Agency's Federal Advisory Committee on Detection and Quantitation Approaches and Uses in Clean Water Act (CWA) Programs (FACDQ) will be renewed for an additional two year period, to allow the committee to complete its work. This is a necessary committee which is in the public interest, in accordance with the provisions of the Federal Advisory Committee Act (FACA), 5 U.S.C. App.2 section 9(c). The purpose of the FACDQ is to provide advice and recommendations to the EPA Administrator on policy issues related to detection and quantitation, and on the scientific and technical aspects associated with monitoring and reporting chemical pollutants under the Clean Water Act. We have determined that completing the work of this committee is in the public interest, and will assist the Agency in performing its duties under the Clean Water Act, as amended.

Copies of the Committee Charter will be filed with the appropriate committees of Congress and the Library of Congress.

FOR FURTHER INFORMATION CONTACT: Meghan Hessenauer, Engineering and Analysis Division, MC4303T, Environmental Protection Agency, 1200 Pennsylvania Ave., NW., Washington, DC 20460; Telephone number: (202) 566-1040; Fax number: (202) 566-1053; E-mail address: Hessenauer.Meghan@EPA.GOV.

Dated: May 21, 2007.
Benjamin H. Grumbles,
Assistant Administrator for Water.

[FR Doc. E7-10234 Filed 5-25-07; 8:45 am]

BILLING CODE 6560-50-P